DEPARTMENT OF COMMERCE

International Trade Administration

(A-570-828)

Silicomanganese from the People's Republic of China: Rescission of Antidumping Duty Administrative Review

AGENCY: Import Administration, International Trade Administration, U.S. Department of Commerce.

EFFECTIVE DATE: May 31, 2005.

FOR FURTHER INFORMATION CONTACT: Michael Holton, AD/CVD Enforcement Operations, Office 8, Import Administration, International Trade Administration, U.S. Department of Commerce, 14th Street and Constitution Avenue, NW, Washington, DC 20230; telephone: 202-482-1324.

SUMMARY: In response to a request made by Border Steel, an importer of the subject merchandise, the Department of Commerce (“Department”) initiated an administrative review of the antidumping duty order on silicomanganese from the People's Republic of China (“PRC”) for sales made by Yonghe Metal Co., Ltd./Sichuan Huaxin Iron Alloy Co. Ltd. (“Yonghe Metal”), producer and exporter of the subject merchandise. Because Border Steel has withdrawn its request for an administrative review, and there were no other requests for an administrative review for this time period, the Department is rescinding this administrative review.

SUPPLEMENTARY INFORMATION:

Background

On December 30, 2004, Border Steel, an importer of the subject merchandise, requested the Department to conduct an administrative review of sales made by Yonghe Metal for the period December 1, 2003, through November 30, 2004. Border Steel was the only interested party to request a review for this period. On January 31, 2005, the Department published a notice of initiation of the antidumping administrative review of silicomanganese from the PRC, in accordance with 19 CFR 351.221(c)(1)(i). See Initiation of Antidumping and Countervailing Duty Administrative Reviews and Requests for Revocations in Part, 70 FR 4818 (January 31, 2005). On March 25, 2005, Border Steel withdrew its request for review.

Rescission of Review

Pursuant to the Department's regulations, the Department will rescind an administrative review “if a party that requested the review withdraws the request within 90 days of the date of publication of notice of initiation of the requested review.” See 19 CFR 351.213(d)(1). Border Steel, the only interested party to request an administrative review for this time period, withdrew its request for this review within the 90-day time limit; accordingly, we are rescinding the administrative review for the period December 1, 2003, through November 30, 2004, and will issue appropriate assessment instructions to U.S. Customs and Border Protection.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation.

This determination is issued in accordance with 19 CFR 351.213(d)(4) and section 777(i)(1) of the Tariff Act of 1930, as amended.

Dated: May 18, 2005.
Barbara E. Tillman,
Acting Deputy Assistant Secretary for Import Administration.

[FR Doc. E5-2739 Filed 5-27-05; 8:45 am]

BILLING CODE 3510-DS-S